NUCLEAR REGULATORY COMMISSION

Advisory Committee on Reactor Safeguards; Joint Meeting of the Subcommittees on Regulatory Policies and Practices and on Thermal-Hydraulic Phenomena; Notice of Meeting

The ACRS Subcommittees on Regulatory Policies and Practices and on Thermal-Hydraulic Phenomena will hold a joint meeting on January 25, 2006, Room T-2B3, 11545 Rockville Pike, Rockville, Maryland.

The entire meeting will be open to public attendance.

The agenda for the subject meeting shall be as follows:

Wednesday, January 25, 2006—1:30 p.m. until 5:30 p.m.

The Subcommittees will review the staff's draft proposed Regulatory Guide in support of risk-informed changes to loss-of-coolant accident technical requirements. The Subcommittees will hear presentations by and hold discussions with representatives of the NRC staff, and other interested persons regarding this matter. The Subcommittee will gather information, analyze relevant issues and facts, and formulate proposed positions and actions, as appropriate, for deliberation by the full Committee.

Members of the public desiring to provide oral statements and/or written comments should notify the Designated Federal Official, Mr. Michael R. Snodderly (telephone 301/415-6927), five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: January 4, 2006.
Michael L. Scott,
Branch Chief, ACRS/ACNW.

[FR Doc. E6-122 Filed 1-9-06; 8:45 am]

BILLING CODE 7590-01-P